FEDERAL MARITIME COMMISSION

Ocean Transportation Intermediary License Applicants

Notice is hereby given that the following applicants have filed with the Federal Maritime Commission an application for a license as a Non-Vessel-Operating Common Carrier (NVO) and/or Ocean Freight Forwarder (OFF)—Ocean Transportation Intermediary (OTI) pursuant to section 19 of the Shipping Act of 1984 as amended (46 U.S.C. chapter 409 and 46 CFR part 515). Notice is also hereby given of the filing of applications to amend an existing OTI license or the Qualifying Individual (QI) for a license.

Interested persons may contact the Office of Transportation Intermediaries, Federal Maritime Commission, Washington, DC 20573.

AMC Transportation Inc. (NVO & OFF), 8054 E. Garvey Avenue, Suite 102, Rosemead, CA 91770, Officers: Kuan C. Lee, CFO (Qualifying Individual), Pei Lee, President/Secretary, Application Type: New NVO & OFF.

American Freight Logistics, Inc. (NVO), 17890 Castleton Street, Suite 398, City of Industry, CA 91748, Officers: Jennifer X. McCormick, President (Qualifying Individual), Mark R. McCormick, Secretary/Treasurer, Application Type: QI Change.

British American Shipping, LLC (NVO), 10564 Progress Way, Suite E, Cypress, CA 90630, Officers: Paul D. Snell, CEO (Qualifying Individual), Robert P. Clarke, COO, Application Type: New NVO License.

Cargo America, Inc. (NVO & OFF), 332 S. Wayside Drive, Houston, TX 77011, Officer: Ali Jabr, President (Qualifying Individual), Application Type: QI Change.

Concert Group Logistics, Inc. (NVO & OFF), 1430 Branding Avenue, #150, Downers Grove, IL 60515, Officers: Kevin J. Koerner, Vice President Operations (Qualifying Individual), Daniel Para, CEO, Application Type: QI Change.

De Well Logistics LLC dba De Well Logistics, dba De Well (NVO & OFF), 2310 E. Gladwick Street, Rancho Dominguez, CA 90220, Officers: Kevin L. Higgins, Executive Vice President of Operations (Qualifying Individual), Fang Cheng, Member, Application Type: New NVO & OFF License.

Everplus Logistics Inc (NVO & OFF), 3 University Plaza, Hackensack, NJ 07601, Officers: Danny Shin, Secretary/Treasurer (Qualifying Individual), Yun S. Kang, President, Application Type: New NVO & OFF License.

Fair Deal Shipping, Inc. (NVO), 150-40 183rd Street, Suite 107, Springfield Gardens, NY 11413, Officers: Mohammed Refaz Siddiquee, President/Treasurer (Qualifying Individual), Badrul Haq, Vice President/Secretary, Application Type: New NVO License.

First America Metal Corporation (OFF), 113 Industrial Drive, Minooka, IL 60447, Officers: Sean Xu, General Manager (Qualifying Individual), Jian Li, President, Application Type: New OFF License.

Hanjin Transportation Company Limited (NVO), 118, Namdaemunro 2-GA, Jung-Gu, 21st Fl., Marine Center, Seoul, Korea South, Officers: Jade Lee, Secretary (Qualifying Individual), Bryce Dalziel, CEO, Application Type: QI Change.

Heneways U.S.A. Inc. (NVO & OFF), 1400 Mittel Blvd., Suite C, Wood Dale, IL 30191, Officers: Richard Tilford, Vice President (Qualifying Individual), John Buchel, Director, Application Type: QI Change.

Miami Boat Export Corp. (NVO & OFF), 9590 NW. 27th Ct., Coral Springs, FL 33065, Officers: Nelson Munive, President/Secretary (Qualifying Individual), Marcia Z. Munive, Vice President/Treasurer, Application Type: New NVO & OFF.

MIQ Global, LLC dba MIQ Logistics (NVO & OFF), 5200 W. 110th Street, Overland Park, IL 66211, Officers: Tina Jansen, Vice President-Compliance & Import Service (Qualifying Individual), Joseph L. Carnes, Chairman and CEO, Application Type: Name Change.

NDO America, Inc. (NVO & OFF), 22351 S. Wilmington Avenue, Carson, CA 90745, Officers: Theresa A. Fulton, Assistant Secretary (Qualifying Individual), John E. Ferguson, President, Application Type: Name Change.

Outer Seaways, Inc. (NVO), 1315 Walnut Street, #1708A, Philadelphia, PA 19107, Officers: Brian L. Cassidy, Vice President (Qualifying Individual), John J. O'Donnell, President, Application Type: New NVO License.

Pegasus Worldwide Logistics, Inc. (NVO & OFF), 2660 East Del Amo Blvd., Carson, CA 90221, Officers: Raymond Choy, Secretary/Treasurer/Vice President/Director (Qualifying Individual), Cooper Chao, President/Director, Application Type: New NVO & OFF License.

Peravia Shipping Company (NVO & OFF), 44 First Street, Passaic, NJ 07055, Officers: Mirna Marte, Secretary (Qualifying Individual), Franklin Ozuna, President, Application Type: New NVO & OFF License.

Reindeer Forwarding, Inc. (OFF), 5100 Charles Court, Zionsville, IN 46077, Officers: Alan J. Waugh, Vice President of International Operations (Qualifying Individual), Tim R. Donnar, Chairman/President/Treasurer, Application Type: New NVO License.

Sombut Kunkang dba Duchess Logistics (OFF), 17903 Holmes Avenue, Cerritos, CA 90703, Officer: Sombut Kunkang, Sole Proprietor (Qualifying Individual), Application Type: New OFF License.

Sun Fine Systems, Inc. dba Marquis Logistics (NVO), 13460 Brooks Drive, Baldwin Park, CA 91706, Officers: David Sun, CEO (Qualifying Individual), Jie Chen, CFO, Application Type: Trade Name Change.

T. A. Provence and Company, Incorporated, 154 State Street, Mobile, AL 36603, Officers: Cheryl C. Sloan, President (Qualifying Individual), Mary S. Cleveland, Secretary/Treasurer, Application Type: QI Change.

Dated: October 22, 2010.
Rachel E. Dickon,
Assistant Secretary.

[FR Doc. 2010-27201 Filed 10-26-10; 8:45 am]

BILLING CODE 6730-01-P